DEPARTMENT OF COMMERCE

National Oceanic and Atmospheric Administration

50 CFR Part 622

[Docket No. 140818679-5356-02]

RIN 0648-XG060

Fisheries of the Caribbean, Gulf of Mexico, and South Atlantic; Reef Fish Fishery of the Gulf of Mexico; 2018 Recreational Fishing Seasons for Red Snapper in the Gulf of Mexico

AGENCY: National Marine Fisheries Service (NMFS), National Oceanic and Atmospheric Administration (NOAA), Commerce.

ACTION: Temporary rule; closure.

SUMMARY: NMFS announces the 2018 recreational fishing seasons for the private angling and Federal charter vessel/headboat (for-hire) components for red snapper in the exclusive economic zone (EEZ) of the Gulf of Mexico (Gulf) through this temporary rule. The Federal recreational season for red snapper in the Gulf EEZ begins at 12:01 a.m., local time, on June 1, 2018. For recreational harvest by the private angling component, the season closes at 12:01 a.m., local time, on June 1, 2018. For recreational harvest by the Federal for-hire component, the season closes at 12:01 a.m., local time, on July 22, 2018. These closures are necessary to prevent the private angling and Federal for-hire components from exceeding their respective quotas, equivalent to annual catch limits (ACLs), for the 2018 fishing year and to prevent overfishing of the Gulf red snapper resource.

DATES: The closure is effective at 12:01 a.m., local time, June 1, 2018, until 12:01 a.m., local time, January 1, 2019, for the private angling component. The closure is effective at 12:01 a.m., local time, July 22, 2018, until 12:01 a.m., local time, January 1, 2019, for the Federal for-hire component.

FOR FURTHER INFORMATION CONTACT: Kelli O'Donnell, NMFS Southeast Regional Office, telephone: 727-824-5305, email: kelli.odonnell@noaa.gov.

SUPPLEMENTARY INFORMATION: The Gulf reef fish fishery, which includes red snapper, is managed under the Fishery Management Plan for the Reef Fish Resources of the Gulf of Mexico (FMP). The FMP was prepared by the Gulf of Mexico Fishery Management Council and is implemented by NMFS under the authority of the Magnuson-Stevens Fishery Conservation and Management Act (Magnuson-Stevens Act) by regulations at 50 CFR part 622.

The final rule implementing Amendment 40 to the FMP established two components within the recreational sector fishing for Gulf red snapper: The private angling component, and the Federal for-hire component (80 FR 22422; April 22, 2015). Amendment 40 also allocated the red snapper recreational ACL (recreational quota) between the components and established separate seasonal closures for the two components. The recreational seasonal closures are projected from the component annual catch targets (ACTs), set 20 percent less than the component quotas, to reduce the likelihood of the harvest exceeding the component quotas and the total recreational ACL.

According to regulations at 50 CFR 622.39(a)(2)(i), the 2018 total recreational quota for red snapper in the Gulf EEZ is 6.733 million lb (3.54 million kg), which is allocated 57.7 percent to the private angling component and 42.3 percent to the for-hire component. For the private angling component, the 2018 quota is 3.885 million lb (1.762 million kg), and the 2018 ACT is 3.108 million lb (1.410 million kg) (50 CFR 622.41(q)(2)(iii)(C). For the Federal for-hire component, the 2018 quota is 2.848 million lb (1.292 million kg), and the 2018 ACT is 2.278 million lb (1.033 million kg) (50 CFR 622.41(q)(2)(iii)(B)). All weights given are in round weight.

For the private angling component, NMFS has issued exempted fishing permits (EFPs) that allow each Gulf state (Texas, Louisiana, Mississippi, Alabama, and Florida) to set the season for red snapper that are landed from state and federal waters in that state during 2018 and 2019. The EFPs do so by exempting private anglers from regulations at 50 CFR 622.34(b) (recreational season closure for red snapper) and 50 CFR 622.41(q)(2)(i) (private angler component in-season closure) if these anglers hold the appropriate state fishing permits and are landing red snapper in a participating state during the state's open season. The EFPs allocate a portion of the private angling quota to each state, and each state is required under the terms and conditions of the EFPs to constrain landings to its allocation. The combined allocations equal the private angling component quota. Therefore, there will be no Federal season for the private angling component in 2018, and this closure notice will take effect at 12:01 a.m., local time, June 1, 2018.

The Gulf states will establish seasons during which red snapper caught in state and Federal waters can be landed. States will monitor red snapper landings and close their respective fishing seasons if the state's assigned quota is reached or projected to be reached. Private anglers should consult the regulations for the Gulf state where they wish to land red snapper to determine state season dates and landing requirements. If the EFPs remain effective in 2019, NMFS anticipates announcing a similar Federal recreational fishing season for the private angling component next year.

The 2018 red snapper Federal for-hire fishing season has been determined to be 51 days based on NMFS' projection of the date landings are expected to reach the component ACT. For details about the calculation of the projection for 2018, see http://sero.nmfs.noaa.gov/sustainable_fisheries/gulf_fisheries/red_snapper/index.html. Therefore, the 2018 Federal recreational season for the Federal for-hire component will begin at 12:01 a.m., local time, June 1, 2018, and close at 12:01 a.m., local time, July 22, 2018.

On and after the effective date of the Federal for-hire component closure, the bag and possession limits for red snapper for Federal for-hire vessels are zero. When either the Federal for-hire component or entire recreational sector is closed, these bag and possession limits apply in the Gulf onboard a vessel for which a valid Federal for-hire permit for Gulf reef fish has been issued, without regard to where such species were harvested, i.e., in state or Federal waters (EEZ).

Classification

The Regional Administrator for the NMFS Southeast Region has determined this temporary rule is necessary for the conservation and management of Gulf red snapper and is consistent with the Magnuson-Stevens Act and other applicable laws.

This action is taken under 50 CFR 622.41(q)(2)(i) and (ii) and is exempt from review under Executive Order 12866.

These measures are exempt from the procedures of the Regulatory Flexibility Act because the temporary rule is issued without opportunity for prior notice and comment.

This action is based on the best scientific information available. The Assistant Administrator for NOAA Fisheries (AA), finds that the need to immediately implement this action to close the private angling and Federal for-hire components for the red snapper recreational sector constitute good cause to waive the requirements to provide prior notice and opportunity for public comment on this temporary rule pursuant to the authority set forth in 5 U.S.C. 553(b)(B), because such procedures are unnecessary and contrary to the public interest. Such procedures are unnecessary because the rule implementing the recreational red snapper ACLs and ACTs, and the rule implementing the requirement to close the recreational components when the ACTs are projected to be reached have already been subject to notice and comment, and all that remains is to notify the public of the closures.

Providing prior notice and opportunity for public comment are contrary to the public interest because of the need to immediately implement this action to protect Gulf red snapper by timely closing the Federal recreational seasons. In addition, prior notice and opportunity for public comment would require time and many of those affected by the length of the recreational fishing seasons, particularly for-hire operations that book trips for clients in advance, need as much advance notice as NMFS is able to provide to adjust their business plans to account for the recreational fishing seasons.

For the aforementioned reasons, the AA also finds good cause to waive the 30-day delay in the effectiveness of this action under 5 U.S.C. 553(d)(3).

Authority: 16 U.S.C. 1801 et seq.

Dated: April 18, 2018.
Jennifer M. Wallace,
Acting Director, Office of Sustainable Fisheries, National Marine Fisheries Service.

[FR Doc. 2018-08419 Filed 4-18-18; 4:15 pm]

BILLING CODE 3510-22-P